DEPARTMENT OF ENERGY

Office of Energy Efficiency and Renewable Energy

Revision of a Currently Approved Collection

AGENCY: Office of Energy Efficiency and Renewable Energy, U.S. Department of Energy.

ACTION: Notice and request for OMB review and comment.

SUMMARY: The Department of Energy (DOE) has submitted to the Office of Management and Budget (OMB) for clearance, a proposal for collection of information under the provisions of the Paperwork Reduction Act of 1995. The proposed collection will be used to report the progress of participants in the DOE Better Buildings programs, including the Better Buildings Challenge, Better Buildings, Better Plants program, and the Better Buildings Alliance. These voluntary programs are intended to drive greater energy efficiency in the commercial and industrial marketplace to create cost savings and jobs. This will be accomplished by highlighting the ways participants overcome market barriers and persistent obstacles with replicable, marketplace solutions. These programs will showcase real solutions and partner with industry leaders to better understand policy and technical opportunities. Since the published 60-Day Notice and request for comments on October 2, 2015, 80 FR 59758, there are noted changes to the following supplemental information items: (5) Annual Estimated Number of Respondents is increased from 480 to 740; (6) Annual Estimated Number of Total Responses is reduced from 972 to 933; (7) Annual Estimated Number of Burden Hours is reduced from 2,720 to 2,709.25; and (8) Annual Estimated Reporting and Recordkeeping Cost Burden is reduced from $107,349 to $106,934.

DATES: Comments regarding this collection must be received on or before January 20, 2016. If you anticipate that you will be submitting comments, but find it difficult to do so within the period of time allowed by this notice, please advise the DOE Desk Officer at OMB of your intention to make a submission as soon as possible. The Desk Officer may be telephoned at 202-395-4718.

ADDRESSES: Written comments should be sent to the DOE Desk Officer, Office of Information and Regulatory Affairs, Office of Management and Budget, New Executive Office Building, Room 10102, 735 17th Street NW., Washington, DC 20503.

And to Andre de Fontaine, EE-5F/Forrestal Building, 1000 Independence Avenue SW., Washington, DC 20585 or by fax at 202-586-5234 or by email at andre.defontaine@ee.doe.gov.

FOR FURTHER INFORMATION CONTACT: Requests for additional information or copies of the information collection instrument and instructions should be directed to Andre de Fontaine, EE-5F/Forrestal Building, 1000 Independence Avenue SW., Washington, DC 20585 or by fax at 202-586-5234 or by email at andre.defontaine@ee.doe.gov.

SUPPLEMENTARY INFORMATION: This information collection request contains: (1) OMB No.: 1910-5141; (2) Information Collection Request Title: Better Buildings Challenge, Better Buildings Alliance and the Better Buildings, Better Plants Voluntary Pledge Program; (3) Type of Request: Amendment; (4) Purpose: This Information Collection Request applies to three Department of Energy (DOE) voluntary leadership initiatives that fall under the President's Better Buildings Initiative: (A) The Better Buildings Challenge; (B) the Better Buildings, Better Plants Program; and (C) the Better Buildings Alliance. The information being collected is needed so as to include participants in new sub-programs under the Better Buildings Challenge concerning energy efficiency in the multifamily residential and data center sectors, as well as a new water savings challenge. Additionally, other pre-existing collection forms are being amended for clarity and to reduce burden on respondents. Also, the total number of respondents for individual program areas is being adjusted to align with practical experience and to account for the fact that certain one-time reporting requirements have already been satisfied by a majority of the participants.; (5) Annual Estimated Number of Total Respondents: 740; (6) Annual Estimated Number of Total Responses: 933; (7) Annual Estimated Number of Burden Hours: 2,709.25; (8) Annual Estimated Reporting and Recordkeeping Cost Burden: $106,934.

Statutory Authority: Section 421 of the Energy Independence and Security Act of 2007 (42 U.S.C. 17081); Section 911 of the Energy Policy Act of 2005, as amended (42 U.S.C. 16191).

Issued in Washington, DC, on December 15, 2015.
Maria Vargas,
Director, Better Buildings Challenge, Office of Energy Efficiency and Renewable Energy.

[FR Doc. 2015-32029 Filed 12-18-15; 8:45 am]

BILLING CODE 6450-01-P